SMALL BUSINESS ADMINISTRATION

Region IX Regulatory Fairness Board; Public Federal Regulatory Enforcement Fairness Roundtable

The Small Business Administration Region IX Regulatory Fairness Board and the SBA Office of the National Ombudsman will hold a Public Roundtable on Wednesday, March 13, 2002 at 1:30 p.m. at the Los Angeles Area Chamber of Commerce, 350 South Bixel Street, Los Angeles, CA 90017, phone (213) 580-7500, fax (213) 580-7511, to provide small business owners and representatives of trade associations with an opportunity to share information concerning the federal regulatory enforcement and compliance environment.

Anyone wishing to attend or to make a presentation must contact John Tumpak in writing or by fax, in order to be put on the agenda. John Tumpak, U.S. Small Business Administration, Los Angeles District Office, 330 North Brand Boulevard, Suite 1200, Glendale, CA 91203, phone (818) 552-3203, fax (818) 552-3286, e-mail: john.tumpak@sba.gov.

For more information, see our Web site at www.sba.gov/ombudsman.

Dated: February 27, 2002.
Michael L. Barrera,
National Ombudsman.

[FR Doc. 02-5404 Filed 3-6-02; 8:45 am]

BILLING CODE 8025-01-P